ARCTIC RESEARCH COMMISSION

Programs and Research Projects Affecting the Arctic; 99th Meeting

Notice is hereby given that the U.S. Arctic Research Commission will hold its 99th meeting in Vancouver, British Columbia, Canada, on December 10-11, 2012. The business sessions, open to the public, will convene at 9 a.m. on December 10 and December 11. An afternoon meeting on December 10 from 2:15-5:30 p.m. will be closed to the public.

The Agenda items include:

(1) Call to order and approval of the agenda

(2) Approval of the minutes from the 98th meeting

(3) Commissioners and staff reports

(4) Discussion and presentations concerning Arctic research activities

The focus of the meeting will be reports and updates on programs and research projects affecting the Arctic.

If you plan to attend this meeting, please notify us via the contact information below. Any person planning to attend who requires special accessibility features and/or auxiliary aids, such as sign language interpreters, must inform the Commission of those needs in advance of the meeting.

Contact Person For Further Information: John Farrell, Executive Director, U.S. Arctic Research Commission, 703-525-0111 or TDD 703-306-0090.

John Farrell,
Executive Director.

[FR Doc. 2012-27531 Filed 11-14-12; 8:45 am]

BILLING CODE P